DEPARTMENT OF ENERGY

Federal Energy Regulatory Commission

[Project No. 2837-032]

Erie Boulevard Hydropower, L.P.; Notice of Intent To File License Application, Filing of Pre-Application Document, and Approving Use of the Traditional Licensing Process

a. Type of Filing: Notice of Intent to File License Application and Request to Use the Traditional Licensing Process.

b. Project No.: 2837-032.

c. Date Filed: March 20, 2015.

d. Submitted By: Erie Boulevard Hydropower, L.P.

e. Name of Project: Granby Hydroelectric Project.

f. Location: On the Oswego River near the town of Fulton, in Oswego County, New York. The project does not affect federal lands.

g. Filed Pursuant to: 18 CFR 5.3 of the Commission's regulations

h. Applicant Contact: Steven P. Murphy, Brookfield Renewable Energy Group, 33 West 1st Street South, Fulton, New York, 13069; (315) 598-6130 or by email at Steven.Murphy@brookfieldrenewable.com.

i. FERC Contact: Allyson Conner at (202) 502-6082 or email at allyson.conner@ferc.gov.

j. Erie Boulevard Hydropower, L.P. (Erie) filed its request to use the Traditional Licensing Process on March 20, 2015. Erie provided public notice of its request on March 14, 15, and 18, 2015. In a letter dated May 19, 2015, the Director of the Division of Hydropower Licensing approved Erie's request to use the Traditional Licensing Process.

k. With this notice, we are initiating informal consultation with: (a) The U.S. Fish and Wildlife Service and the National Marine Fisheries Service under section 7 of the Endangered Species Act and the joint agency regulations thereunder at 50

l. CFR, Part 402; and (b) the New York State Historic Preservation Officer, as required by section 106, National Historic Preservation Act, and the implementing regulations of the Advisory Council on Historic Preservation at 36 CFR 800.2.

m. With this notice, we are designating Erie as the Commission's non-federal representative for carrying out informal consultation pursuant to section 7 of the Endangered Species Act and consultation pursuant to section 106 of the National Historic Preservation Act.

n. Erie filed a Pre-Application Document (PAD; including a proposed process plan and schedule) with the Commission, pursuant to 18 CFR 5.6 (d) of the Commission's regulations.

o. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

p. The licensee states its unequivocal intent to submit an application for a new license for Project No. 2837. Pursuant to 18 CFR 16.8, 16.9, and 16.10 each application for a new license and any competing license applications must be filed with the Commission at least 24 months prior to the expiration of the existing license. All applications for license for this project must be filed by March 31, 2018.

q. Register online at http://www.ferc.gov/docs-filing/esubscription.asp to be notified via email of new filing and issuances related to this or other pending projects. For assistance, contact FERC Online Support.

Dated: May 19, 2015.
Kimberly D. Bose,
Secretary.

[FR Doc. 2015-12604 Filed 5-22-15; 8:45 am]

BILLING CODE 6717-01-P